DEPARTMENT OF HOMELAND SECURITY

Coast Guard

33 CFR Part 117

[Docket No. USCG-2010-0406]

Drawbridge Operation Regulations; Newark Bay, NJ, Maintenance

AGENCY: Coast Guard, DHS.

ACTION: Notice of temporary deviation from regulations.

SUMMARY: The Commander, First Coast Guard District, has issued a temporary deviation from the regulation governing the operation of the Lehigh Valley Bridge across Newark Bay, mile 4.3, at Newark, New Jersey. This deviation allows the bridge to remain in the closed position on seven nonconsecutive days to facilitate scheduled maintenance.

DATES: This deviation is effective from 9 a.m. on June 14, 2010 through 2 p.m. on July 26, 2010.

ADDRESSES: Documents mentioned in this preamble as being available in the docket are part of docket USCG-2010-0406 and are available online at http://www.regulations.gov, inserting USCG-2010-0406 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call Mr. Joe Arca, Project Officer, First Coast Guard District, telephone (212) 668-7165. If you have questions on viewing the docket, call Renee V. Wright, Program Manager, Docket Operations, telephone 202-366-9826.

SUPPLEMENTARY INFORMATION: The Lehigh Valley Bridge, across Newark Bay at mile 4.3, at Newark, New Jersey, has a vertical clearance in the closed position of 35 feet at mean high water and 39 feet at mean low water. The drawbridge operation regulations are listed at 33 CFR 117.735.

The owner of the bridge, Conrail, requested a temporary deviation from the regulations to facilitate scheduled bridge maintenance, lift cable replacement at the bridge.

Under this temporary deviation the Lehigh Valley Bridge may remain in the closed position on Mondays, June 14, 21, 28, July 5, 12, 19, and 26, 2010 between 9 a.m. and 2 p.m. to facilitate lift cable replacement.

Waterway users were advised of the requested bridge closures and offered no objection.

In accordance with 33 CFR 117.35(e), the bridge must return to its regular operating schedule immediately at the end of the designated time period. This deviation from the operating regulations is authorized under 33 CFR 117.35.

Dated: May 27, 2010.
Gary Kassof,
Bridge Program Manager, First Coast Guard District.

[FR Doc. 2010-13818 Filed 6-8-10; 8:45 am]

BILLING CODE 9110-04-P